DEPARTMENT OF ENERGY

Federal Energy Regulatory Commission

[Project No. 13835-000]

Coffin Butte Energy Park, LLC; Notice of Preliminary Permit Application Accepted for Filing and Soliciting Comments, Motions To Intervene, and Competing Applications

September 21, 2010.

On August 25, 2010, Coffin Butte Energy Park, LLC filed an application for a preliminary permit, pursuant to section 4(f) of the Federal Power Act (FPA), proposing to study the feasibility of the Coffin Butte Pumped Storage Water Power Project (Coffin Butte Project) to be located in Wheatland County, Montana. The sole purpose of a preliminary permit, if issued, is to grant the permit holder priority to file a license application during the permit term. A preliminary permit does not authorize the permit holder to perform any land-disturbing activities or otherwise enter upon lands or waters owned by others without the owners' express permission.

The proposed project will consist of the following: (1) A 5,700-foot-long, 60-foot-high triangular earth and roller compacted concrete embankment; creating a 50-acre upper reservoir with a storage capacity of 2,500-acre-foot at an elevation of 6,420 feet National Geodetic Vertical Datum 1929 (NGVD 29); (2) a 6,300-foot-long, 60-foot-high oval earth and roller compacted concrete embankment; creating a 50-acre lower reservoir with a storage capacity of 2,500-acre-foot at an elevation of 5,200 feet NGVD 29; (3) an 18-foot-diameter, 5,000-foot-long steel-lined tunnel connecting the two reservoirs; (4) a powerhouse located on the steel-lined tunnel containing two reversible 125-megawatt (MW) turbine/generator units, for a total installed capacity of 250 MW; (5) a temporary earthen/rock diversion with a pump and 2-foot-diameter pipeline to bring initial fill water to the lower reservoir from Miller Creek; (6) a 2-foot-diameter well to bring groundwater to the project to make up evaporation and seepage losses; (7) an approximately 2-mile-long, 500-kilovolt (kV) transmission line connecting the powerhouse to an existing 500-kV transmission line in the area or a 7-mile-long, 230-kV transmission line connecting the powerhouse to the Two Dot substation; and (8) appurtenant facilities. The estimated annual generation of the Coffin Butte Project would be 880,000 megawatt-hours.

Applicant Contact: Carl Borquist, Coffin Butte Energy Park, LLC, 1970 Stadium Drive, Suite 3, Bozeman, MN 59715; phone: (406) 585-3006.

FERC Contact: Jennifer Harper (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13835-000) in the docket number field to access the document. For assistance, contact FERC Online Support.

Kimberly D. Bose,
Secretary.

[FR Doc. 2010-25101 Filed 10-5-10; 8:45 am]

BILLING CODE 6717-01-P